FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 013868N.

Name: Cruz International, Inc.

Address: 2206 Saxon Street, Tampa, FL 33605.

Date Revoked: September 11, 2009.

Reason: Failed to maintain a valid bond.

License Number: 019052N.

Name: Deans & Associate Freight System Inc.

Address: 225-10 Merrick Blvd., Laurelton, NY 11413.

Date Revoked: September 27, 2009.

Reason: Failed to maintain a valid bond.

License Number: 019117F.

Name: East-West CFS, Inc.

Address: 14821 Northam Street, La Mirada, CA 90638.

Date Revoked: September 20, 2009.

Reason: Failed to maintain a valid bond.

License Number: 020780N.

Name: Kevin Jung dba US Global Logistics.

Address: 540 S. Catalina Street, Ste. 209, Los Angeles, CA 90020.

Date Revoked: September 26, 2009.

Reason: Failed to maintain a valid bond.

License Number: 004474N.

Name: Logistics Transportation Services, Inc.

Address: 23171 Mills Road, Porter, TX 77365.

Date Revoked: September 29, 2009.

Reason: Surrendered license voluntarily.

License Number: 017140N.

Name: Meridian Containers (USA) Ltd.

Address: 47 Raritan Ave., Ste. B, Highland Park, NJ 08904.

Date Revoked: September 19, 2009.

Reason: Failed to maintain a valid bond.

License Number: 021775F.

Name: Prologistics, Inc.

Address: 9715 Carnegie Ave., El Paso, TX 79925.

Date Revoked: September 23, 2009.

Reason: Failed to maintain a valid bond.

License Number: 019125F.

Name: Monumental Shipping & Moving Corp.

Address: 103-10 Astoria Blvd., E. Elmhurst, NY 11369.

Date Revoked: September 28, 2009.

Reason: Surrendered license voluntarily.

Sandra L. Kusumoto,
Director, Bureau of Certification and Licensing.

[FR Doc. E9-25961 Filed 10-27-09; 8:45 am]

BILLING CODE 6730-01-P